DEPARTMENT OF STATE

22 CFR Part 22

[Public Notice: 9269]

RIN 1400-AD71

Schedule of Fees for Consular Services, Department of State and Overseas Embassies and Consulates—Passport and Citizenship Services Fee Changes; Correction

AGENCY: Department of State.

ACTION: Interim final rule; correction.

SUMMARY: The Department of State published an interim final rule on September 8, 2015, amending the Schedule of Fees for Consular Services (Schedule) for certain passport fees and citizenship services fees. The document contained an incorrect effective date for a portion of the rule. This document corrects the rule.

DATES: The effective date of the amendments to § 22.1, Items 2.(a), 2.(b), and 2.(g), published in the Federal Register on September 8, 2015 (80 FR 53704), is corrected to September 26, 2015.

FOR FURTHER INFORMATION CONTACT: Jill Warning, Special Assistant, Office of the Comptroller, Bureau of Consular Affairs, Department of State; phone: 202-485-6681, telefax: 202-485-6826; email: fees@state.gov.

SUPPLEMENTARY INFORMATION: The Department of State published an interim final rule on September 8, 2015 (80 FR 53704); this document corrects the effective date for one portion of the rulemaking. The other dates applicable to the rulemaking, as well as the duration of the public comment period, are unchanged.

Corrections

In FR Rule Doc. 2015-22054, in the Federal Register of September 8, 2015 (80 FR 53704), the following corrections are made:

1. On page 53704 in the second column, the first sentence of the DATES section is corrected to read: “Section 22.1, Items 2.(a), 2.(b), and 2.(g) of this rule become effective on September 26, 2015.”

2. On page 53709, in the third column, amendatory instruction 2a is corrected to read:

“a. Revising Items 2.(a), (b), and (g), effective September 26, 2015; and”

Dated: September 9, 2015.
David T. Donahue,
Acting Assistant Secretary of State for Consular Affairs, U.S. Department of State.

[FR Doc. 2015-23140 Filed 9-14-15; 8:45 am]

BILLING CODE 4710-06-P